DEPARTMENT OF HOUSING AND URBAN DEVELOPMENT

[Docket No. FR-7029-N-05]

60-Day Notice of Proposed Information Collection: Rental Assistance Demonstration (RAD) Choice Mobility and Long-Term Affordability Evaluation

AGENCY: Office of the Assistant Secretary for Policy Development and Research, HUD.

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: August 10, 2020.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Rental Assistance Demonstration (RAD) Choice Mobility and Long-Term Affordability Evaluation.

OMB Approval Number: Pending.

Type of Request: New collection.

Form Number: N/A.

Description of the need for the information and proposed use: The Office of Policy Development and Research (PD&R), at the U.S. Department of Housing and Urban Development (HUD), is proposing the collection of information for the Rental Assistance Demonstration (RAD) Choice Mobility and Long-Term Affordability Evaluation.

RAD was established under the Consolidated and Further Continuing Appropriations Act of 2012 to preserve affordable housing units over the long term by enabling public housing authorities (PHAs) to apply to HUD to convert at-risk public housing properties to two different forms of project-based Section 8 Housing Assistance Payments contracts—project-based voucher (PBV) or project-based rental assistance (PBRA). Doing so gives PHAs more flexibility to access private and public funding sources to meet with short-term capital needs, reduce their reliance on limited appropriations, and stabilize their financial and physical condition. Choice mobility, an additional feature of RAD, allows residents of RAD properties to request a Housing Choice Voucher that they can use to move to a housing unit in the private market.

Congress requested an evaluation of RAD to assess the impact of the demonstration on the preservation and improvement of public housing, the amount of private sector leveraging, and the effect on tenants. HUD contracted a two-phase evaluation to address these research areas. The Phase I results were published in 2016 and the Phase II results in 2019. The OMB Approval Number for that evaluation was 2528-0304 and expired on January 31st, 2020. The Fiscal Year 2018 Appropriations Act provided funds to conduct a follow-up evaluation of the RAD program, including its implementation and outcomes, the choice mobility option, the impact on tenants and related protections, and the long-term preservation of housing affordability.

This Federal Register Notice provides an opportunity to comment on the information collection for this new phase of the RAD evaluation titled RAD Choice Mobility and Long-Term Affordability Evaluation. The current information collection is designed to support four studies included in the evaluation. One is the study of the implementation of the RAD choice mobility option and its effects on property outcomes, tenant outcomes, and the voucher program. The second study is the impact of RAD on the long-term preservation and financial viability of converted affordable housing properties. The third is the adequacy of asset management for PBV and PBRA conversions. The fourth study will examine the organizational and operational changes at PHAs that participated in RAD. For the first three studies, the evaluation includes web-based survey of all RAD PHAs, RAD property owners/operators, and former RAD residents who have exercised the choice mobility option; and a sample survey of RAD residents who have not elected the choice mobility option. For the fourth study, we plan to conduct qualitative interviews with senior staff at 26 RAD PHAs.

Respondents: PHA officials and staff participating in the RAD program; property owners/operators of RAD properties; former RAD residents who have exercised the choice mobility option; and RAD residents who have not elected the choice mobility option.

Estimated Number of Respondents: This information collection will affect approximately 3,596 respondents. This includes: (1) A survey of 500 RAD PHAs; (2) a survey of 1,350 RAD property owners/operators; (3) a survey of approximately 1,300 former RAD residents who are choice mobility option users; (4) a survey of a sample of 420 RAD residents who did not use the choice mobility option, and (5) qualitative interviews of a sample of 26 RAD PHAs.

Estimated Time per Response: The RAD PHA survey is expected to take 45 minutes. The RAD property owner/operator survey is expected to take 20 minutes. Surveys of residents, for both the choice mobility census and the non-choice mobility sample, are expected to take 20 minutes. Qualitative interviews with a sample of 26 PHAs will take approximately 60 minutes to complete.

Frequency of Response: 1 time for all surveys and qualitative interviews.

Estimated Total Annual Burden Hours: 1,414 hours for all surveys and qualitative interviews.

Estimated Total Annual Cost: $45,415 for all surveys and qualitative interviews.

Respondent's Obligation: PHAs and property owners who participate in the RAD program are required to cooperate with an evaluation of the RAD program as a condition of participation in the RAD program. Resident participation is voluntary.

Legal Authority: The collection of information is conducted under Title 12, United States Code, Section 1701z and Section 3507 of the Paperwork Reduction Act of 1995, 44, U.S.C., 35, as amended.

Information collection | Number of respondents | Frequency of response | Responses per annum | Burden hour per response | Annual burden hours | Hourly cost per response | Cost
RAD PHAs survey | 500 | 1 | 1 | 0.75 | 375.00 | $34.46 | $12,922.50
RAD property owners/operators survey | 1,350 | 1 | 1 | 0.33 | 445.50 | 34.46 | 15,351.93
Residents survey (choice mobility option users) | 1,300 | 1 | 1 | 0.33 | 429.00 | 28.62 | 12,277.98
Residents survey (choice mobility option non-users) | 420 | 1 | 1 | 0.33 | 138.60 | 28.62 | 3,966.73
RAD PHAs qualitative interviews | 26 | 1 | 1 | 1 | 26.00 | 34.46 | 895.96
Total | 3,596 |  |  |  | 1,414.10 |  | 45,415.10
Source: Table B-3. Average hourly and weekly earnings of all employees on private nonfarm payrolls by industry sector, seasonally adjusted. U.S. Bureau of Labor Statistics. March 2020(P) for all private sector ($28.62) and professional and business services ($34.46). https://www.bls.gov/news.release/empsit.t19.htm.

To arrive at the dollar cost of the estimated response burden, we have used preliminary estimates from the U.S. Bureau of Labor Statistics on average hourly earnings in March 2020. For PHA staff and property owner/operator staff, we use the estimate for professional and business services ($34.46). For residents, we use the estimate for all private sector employees ($28.62).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35. The Assistant Secretary for Policy Development and Research, Seth Appleton, having reviewed and approved this document, is delegating the authority to electronically sign this document to submitter, Nacheshia Foxx, who is the Federal Register Liaison for HUD, for purposes of publication in the Federal Register.

Dated: June 4, 2020.
Nacheshia Foxx,
Federal Liaison for the Department of Housing and Urban Development.

[FR Doc. 2020-12433 Filed 6-8-20; 8:45 am]

BILLING CODE 4210-67-P